DEPARTMENT OF JUSTICE

Notice of Lodging of Consent Decree and Environmental Settlement under the Comprehensive Environmental Response, Compensation and Liability Act, and the Resource Conservation and Recovery Act

Notice is hereby given that on November 23, 2010, a proposed Consent Decree and Environmental Settlement Agreement (“Settlement Agreement”) in the matter of In re: Tronox Incorporated, et al., Case No.09-10156 (ALG) (Jointly Administered), was lodged with the United States Bankruptcy Court for the Southern District of New York.

The parties to the proposed Settlement Agreement are Tronox Incorporated, and fourteen of its affiliates (collectively, “Tronox” or “Debtors”), the United States, the Navajo Nation, twenty-two states, and several municipalities (collectively, the “Governmental Environmental Claimants”). The proposed Settlement Agreement creates five environmental response trusts and provides for Tronox to pay $270 million and certain other consideration to the environmental response trusts and Governmental Environmental Claimants. Additionally, Tronox is to assign its rights in a pending fraudulent conveyance lawsuit against its former parent, Kerr-McGee Corporation, and Anadarko Petroleum Corporation, which purchased Kerr-McGee, to a litigation trust that will pay 88% of its net recoveries to the environmental response trusts and Governmental Environmental Claimaints. The fraudulent conveyance lawsuit alleges that Kerr-McGee and Anadarko defrauded Tronox and its creditors, including the United States, by imposing on Tronox all of Kerr-McGee's environmental liabilities without sufficient means to satisfy those liabilities.

The Settlement Agreement resolves certain environmental liabilities of the Debtors to the Governmental Environmental Claimants at more than 2000 sites and indicates the amount of cash and percentage of net recoveries from the fraudulent conveyance action that will be provided by site. Among the sites included in the settlement are:

The Mobile Pigment Complex, Mobile, AL

The former Petroleum Terminal Site, Birmingham, AL

The Jacksonville AgChem Site, Jacksonville, FL

The former titanium dioxide Plant, Savannah, GA

The Rare Earths Facility, W. Chicago, IL

The Kress Creek and Residential Areas Sites, W. Chicago, IL

The Lindsay Light Thorium Sites, Chicago, IL

The former wood treating facility, Madison, IL

The Soda Springs Vanadium Plant, Soda Springs, ID

The former wood treating facility, Columbus, MS

The former wood treating facility, Hattiesburg, MS

The Navassa wood treating Site, Wilmington, NC

The Henderson Facility, Henderson, NV

The former wood treating facility, Bossier City, LA

The Calhoun Gas Plant Site, Calhoun, LA

The Fireworks Site, Hanover, MA

The former nuclear fuels facility, Cimarron, OK

The Cleveland Refinery Site, Cleveland, OK

The Cushing Refinery Sites, Cushing, OK

The Corpus Christi Petrol Terminal Site, CC, TX

The former wood treating facility, Texarkana, TX

The former wood treating facility, Kansas City, MO

The former wood treating facility, Springfield, MO

The former wood treating facility, Rome, NY

The former wood treating facility, Avoca, PA

The Riley Pass Mine Site, Harding County, SD

The former wood treating facility, Indianapolis, IN more than 50 former uranium mines and mills, including Shiprock, Churchrock, and Ambrosia Lake on and in the vicinity of Navajo Nation, NM, AZ

The White King/Lucky Lass mine site, Lakeview, OR

The Toledo Tie Site, Toledo, OH

The Welsbach Gas and Mantle Site, Camden, NJ

The former Federal Creosote facility, Manville, NJ

The former Moss American Site, Milwaukee, WI more than 1800 current and former service stations in twenty-four states

The Department of Justice will receive for a period of thirty (30) days from the date of this publication comments relating to the Consent Decree and Settlement Agreement. Comments should be addressed to the Assistant Attorney General, Environment and Natural Resources Division, and either e-mailed to pubcomment-ees.enrd@usdoj.gov or mailed to P.O. Box 7611, U.S. Department of Justice, Washington, DC 20044-7611, and should refer to In re Tronox, Incorporated et al., D.J. Ref. 90-11-3-09688. Commenters may request an opportunity for a public meeting in the affected area, in accordance with section 7003(d) of RCRA,42 U.S.C. 6973(d).

The Consent Decree and Settlement Agreement may be examined at the Office of the United States Attorney, 86 Chambers Street—3rd Floor, New York, New York 10007. During the public comment period, the Consent Decree and Settlement Agreement may also be examined on the following Department of Justice Web site: http://www.usdoj.gov/enrd/Consent_Decrees.html. A copy of the Consent Decree and Settlement Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $53.25 (213 pages, exclusive of signature pages and attachments; 25 cents per page reproduction cost) or $123.75 (495 pages, including signatures and attachments) payable to the U.S. Treasury or, if by e-mail or fax, forward a check in that amount to the Consent Decree Library at the stated address.

Maureen M. Katz,
Assistant Chief, Environmental Enforcement Section, Environment and Natural Resources Division.

[FR Doc. 2010-30027 Filed 11-26-10; 8:45 am]

BILLING CODE 4410-CW-P